DEPARTMENT OF EDUCATION

[Docket No.: ED-2013-ICCD-0112]

Agency Information Collection Activities; Submission to the Office of Management and Budget for Review and Approval; Comment Request; Annual Performance Report and Certification of Financial Need for the Jacob K. Javits Fellowship Program

AGENCY: Office of Postsecondary Education (OPE), Department of Education (ED).

ACTION: Notice.

SUMMARY: In accordance with the Paperwork Reduction Act of 1995 (44 U.S.C. chapter 3501 et seq.), ED is proposing an extension of an existing information collection of a previously approved information collection.

DATES: Interested persons are invited to submit comments on or before December 16, 2013.

ADDRESSES: Comments submitted in response to this notice should be submitted electronically through the Federal eRulemaking Portal at http://www.regulations.gov by selecting Docket ID number ED-2013-ICCD-0112 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E103, Washington, DC 20202-4537.

FOR FURTHER INFORMATION CONTACT: For questions related to collection activities or burden, please call Kate Mullan, 202-401-0563 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Annual Performance Report and Certification of Financial Need for the Jacob K. Javits Fellowship Program.

OMB Control Number: 1840-0630.

Type of Review: Extension without change of an existing collection of information.

Respondents/Affected Public: Private sector.

Total Estimated Number of Annual Responses: 51.

Total Estimated Number of Annual Burden Hours: 204.

Abstract: The Jacob K. Javits Fellowship Program is authorized by Title VII, Part A, Subpart 1 of the Higher Education Act of 1965, as amended and provides up to four years of financial assistance to students to undertake graduate study at the doctoral and Master of Fine Arts level in selected fields of arts, humanities, and social sciences. Fellows are selected on the basis of (1) superior academic ability demonstrated by their achievements and exceptional promise; and (2) financial need. The amounts of new and continuing awards are based on a student's financial need as determined by the Title IV, Part F needs analysis system. Each individual fellow's need must be assessed and reported each year, along with a continuing fellow's academic progress as determined by the institution. This collection is completed annually by grantee institutions to report on the fellows' progress and levels of financial need for the next academic year. ED uses this data to calculate fellowship amounts and the total grant amount sent to each institution for each fiscal year.

Dated: November 8, 2013.
Kate Mullan,
Acting Director, Information Collection Clearance Division, Privacy, Information and Records Management Services, Office of Management.

[FR Doc. 2013-27268 Filed 11-13-13; 8:45 am]

BILLING CODE 4000-01-P